FEDERAL COMMUNICATIONS COMMISSION

Notice of Public Information Collection(s) Being Reviewed by the Federal Communications Commission for Extension Under Delegated Authority, Comments Requested.

December 22, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 5, 2001. If you anticipate that you will be submitting comments, but find it difficult to do so within the period of time allowed by this notice, you should advise the contact listed below as soon as possible.

ADDRESSES: Direct all comments to Les Smith, Federal Communications Commission, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0484.

Title: Amendment of the Part 63 of the Commission's Rules to Provide for Notification of Common Carriers of Service Disruptions—Section 63.100.

Form No.: None.

Type of Review: Extension of a currently approved collection.

Number of Respondents: 52.

Estimated Time Per Response: 5 hours.

Total Annual Burden: 1040 hours.

Total Annual Cost: $0.

Needs and Uses: Section 63.100 of the Commission's rules requires that “any local exchange or interexchange common carrier that operates transmission or switching facilities and provides access service or interstate or international telecommunications service that experiences an outage on any facilities which it owns or operates must notify the Commission if such service outage continues for 30 or more minutes. An initial and a final outage report is required for each outage. The reports enable us to monitor developments affecting telecommunications reliability; to serve as a source of information for the public; to encourage and, where appropriate, assist in dissemination of information to those affected; and to take immediate steps, as needed, and after analyzing the information submitted, to determine what, if any, other action is required.

OMB Control No.: 3060-0226.

Title: Modification of Licenses—90.135(d) and (e).

Form No.: N/A.

Type of Review: Extension of currently approved collection.

Respondents: Business or other for-profit, Not-for-profit institutions, and State, local or Tribal Government.

Number of Respondents: 1.656.

Frequency of Response: Reporting on occasion.

Total Annual Burden: 276 hours.

Needs and Uses: Rules requires licensees who change certain parameters (name, address, mobile units, etc.) to inform the Commission by form or letter. The information collection covers the submission of letters to notify the FCC. Information is used to maintain an accurate database.

OMB Control No.: 3060-0281.

Title: Supplemental reports required of licensees authorized under this subpart—§ 90.651.

Form No.: N/A.

Type of Review: Extension of currently approved collection.

Respondents: Business or other for-profit, Not-for-profit institutions, and State, local or Tribal Government.

Number of Respondents: 16,408.

Frequency of Response: Reporting on occasion.

Total Annual Burden: 2,724 hours.

Needs and Uses: This section lists various reports required of 800 MHz licensees. The reports indicate whether the system has been constructed and the number of mobile units served.

OMB Control No.: 3060-0291.

Title: Interconnected systems—§ 90.477.

Form No.: N/A.

Type of Review: Extension of currently approved collection.

Respondents: Business or other for-profit, Not-for-profit institutions, and State, local or Tribal Government.

Number of Respondents: 1000.

Frequency of Response: Record-keeping.

Total Annual Burden: 1000 hours.

Needs and Uses: Rule permits land mobile licensees to employ interconnection on a non-profit, cost shared basis and requires that cost sharing records be maintained.

Federal Communications Commission.
William F. Caton,
Deputy Secretary.

[FR Doc. 00-33379 Filed 12-29-00; 8:45 am]

BILLING CODE 6712-01-U